ENVIRONMENTAL PROTECTION AGENCY

[Petition IV-2021-5; FRL-9978-01-R4]

Clean Air Act Operating Permit Program; Petition for Objection to State Operating Permit for Alabama Power Company—Barry Generating Plant (Mobile County, Alabama)

AGENCY: Environmental Protection Agency (EPA).

ACTION: Notice of final Order on petition to object to state operating permit.

SUMMARY: The EPA Administrator signed an Order, dated June 14, 2022, granting in part and denying in part the petition submitted by Sierra Club and Greater-Birmingham Alliance to Stop Pollution (Petitioners) objecting to a proposed Clean Air Act (CAA) title V operating permit issued to Alabama Power Company for its Barry Generating Plant located in Mobile County, Alabama. The Order responds to a March 30, 2021, petition requesting that EPA object to the final operating permit number 503-1001. The title V operating permit was issued by the Alabama Department of Environmental Management (ADEM). The Order constitutes a final action on the petition addressed therein.

ADDRESSES: Copies of the Order, the petition, and all pertinent information relating thereto are on file at the following location: EPA Region 4; Air and Radiation Division; 61 Forsyth Street SW; Atlanta, Georgia 30303-8960. The Order and petition are also available electronically at the following addresses: https://www.epa.gov/system/files/documents/2022-06/APC%20Barry%20Order_6-14-22.pdf; https://www.epa.gov/title-v-operating-permits/title-v-petition-database.

FOR FURTHER INFORMATION CONTACT: Art Hofmeister, Air Permits Section, EPA Region 4, at (404) 562-9115 or hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the CAA, a petition for judicial review of those parts of the Order that deny issues in the petition may be filed in the United States Court of Appeals for the appropriate circuit within 60 days from the date this notice is published in the Federal Register.

Petitioners submitted a petition requesting that EPA object to proposed CAA title V operating permit number 503-1001 issued by ADEM to the Barry Generating Plant for the following reasons: the permit contained limits with the potential to exceed the National Ambient Air Quality Standard for sulfur dioxide, including inappropriate averaging limits for SO2, in contravention of applicable state implementation plan (SIP) provisions; the permit failed to include applicable SIP requirements to control fugitive emissions from the coal handling system and to ensure compliance with SIP opacity limit, including associated monitoring, recordkeeping, and reporting; the permit failed to include emission controls and work practice standards for the coal handling operations and ADEM failed to require that Alabama Power Company disclose all fugitive emissions from the coal handling system; ADEM failed to determine compliance of the facility; ADEM failed to require complete and accurate compliance certifications from Alabama Power Company in accordance with part 70; Alabama Power Company failed to include all applicable requirements in the application for a title V permit; and ADEM failed to provide a basis for granting a permit shield to the entire facility.

On June 14, 2022, the Administrator issued an Order granting in part and denying in part the petition. The Order explains EPA's bases for granting in part and denying in part the petition.

Dated: July 5, 2022.
Daniel Blackman,
Regional Administrator, Region 4.

[FR Doc. 2022-14900 Filed 7-12-22; 8:45 am]

BILLING CODE P